DEPARTMENT OF ENERGY

Federal Energy Regulatory Commission

[Docket No. AD15-5-000]

Available Transfer Capability Standards for Wholesale Electric Transmission Services; Supplemental Notice of Workshop on Available Transfer Capability Standards

As announced in a Notice issued on December 30, 2014, and Supplemental Notice issued January 30, 2015, Federal Energy Regulatory Commission (Commission) staff will hold a workshop on Thursday, March 5, 2015 to discuss standards for calculating Available Transfer Capability (ATC) for wholesale electric transmission services. The workshop will be held in the Commission Meeting Room at the Federal Energy Regulatory Commission, 888 First Street NE., Washington, DC 20426.

As clarified in the attached Updated Agenda, the workshop will commence at 12:00 p.m. and conclude by 4:15 p.m., EST. The specific times of the session discussions, as well as the list of speakers, may be subject to further change. This workshop is free of charge and open to the public. Commission members may participate in the workshop.

Those who plan to attend the workshop are encouraged to complete the registration form located at: https://www.ferc.gov/whats-new/registration/03-05-15-form.asp. There is no registration deadline.

Transcripts of the workshop will be available for a fee from Ace-Federal Reporters, Inc. (202-347-3700 or 1-800-336-6646). Additionally, there will be a free webcast of the workshop. Anyone with Internet access who wants to listen to the workshop can do so by navigating to the Calendar of Events at www.ferc.gov, locating the technical workshop in the Calendar, and clicking on the webcast link. The Capitol Connection provides technical support for the webcast and offers the option of listening to the workshop via phone-bridge for a fee. If you have any questions, visit www.CapitolConnection.org or call 703-993-3100.

While this workshop is not convened for the purpose of discussing specific cases, the workshop may address matters that are at issue in the following pending Commission proceeding: North American Electric Reliability Corporation, Docket No. RM14-7-000.

Commission workshops are accessible under section 508 of the Rehabilitation Act of 1973. For accessibility accommodations, please send an email to accessibility@ferc.gov or call toll free 1-866-208-3372 (voice) or 202-502-8659 (TTY), or send a FAX to 202-208-2106 with the required accommodations.

For further information on this workshop, please contact:

Logistical Information

Sarah McKinley, Office of External Affairs, Federal Energy Regulatory Commission, 888 First Street NE., Washington, DC 20426, (202) 502-8368, sarah.mckinley@ferc.gov.

Technical Information

Christopher Young, Office of Energy Policy and Innovation, Federal Energy Regulatory Commission, 888 First Street NE., Washington, DC 20426, (202) 502-6403, christopher.young@ferc.gov.

Legal Information

Richard Wartchow, Office of the General Counsel, Federal Energy Regulatory Commission, 888 First Street NE., Washington, DC 20426, (202) 502-8744, richard.wartchow@ferc.gov.

Dated: February 27, 2015.
Nathaniel J. Davis, Sr.,
Deputy Secretary.

[FR Doc. 2015-05257 Filed 3-5-15; 8:45 am]

BILLING CODE 6717-01-P